FEDERAL MEDIATION AND CONCILIATION SERVICE

Labor-Management Cooperation Grant Program Information Collection Request

AGENCY: Federal Mediation and Conciliation Service.

ACTION: 60-Day Notice and Request for Comments.

SUMMARY: The Federal Mediation and Conciliation Service (FMCS), as part of its continuing effort to reduce the paperwork burden of grant applicants and awardees in accordance with the Paperwork Reduction Act of 1995, invites the general public and other Federal Agencies to take this opportunity to comment on the following information collection. The information collection requests are FMCS forms: Application for Federal Assistance (SF-424), Accounting System and Financial Capability Questionnaire (LM-3), Request for Advance or Reimbursement SF-270 (LM-6), Financial Status Report SF-269a (LM-7), Project Performance (LM-8), and Grants Program Grantee Evaluation Questionnaire (LM-9). This information collection activity was previously approved by the Office of Management and Budget (OMB) and is requesting a reinstatement without change to the collection. This collection was assigned the control number 3076-0006.

DATES: Comments on this information collection must be received within 60 days of the Federal Register publication date to be assured of consideration.

ADDRESSES: Submit written comments by mail to the Labor-Management Cooperation Grants Program, Federal Mediation and Conciliation Service, 2100 K Street NW., Washington, DC 20427 or by contacting the person whose name appears under the section headed, FOR FURTHER INFORMATION CONTACT. Comments may be submitted by fax at (202) 606-3434 or via email to Linda Gray-Broughton, Grants Specialist at lgbroughton@fmcs.gov. All comments must be identified by the appropriate agency form number. No confidential business information (CBI) should be submitted through email. Information submitted as a comment concerning this document may be claimed confidential by marking any part or all of the information as “CBI”. A copy of the comment that contains CBI will be submitted for inclusion in the public record. Information not marked confidential may be disclosed publicly by FMCS without prior notice. All written comments will be available for inspection in Suite 800 at the Washington, DC address above from 9:00 a.m. to 2:00 p.m., Monday through Friday, excluding legal holidays.

FOR FURTHER INFORMATION CONTACT: Linda Gray-Broughton, Grants Specialist, FMCS, 2100 K Street NW., Washington, DC 20427. Telephone number (202) 606-8181, email to lgbroughton@fmcs.gov.

SUPPLEMENTARY INFORMATION: Copies of the complete agency forms are available from the Labor-Management Cooperation Grants Program by calling, faxing, or writing Linda Gray-Broughton at the address above. Please ask for forms by agency number.

I. Information Collection Requests

FMCS is seeking comments on the following information collection requests contained in FMCS agency forms.

Agency: Federal Mediation and Conciliation Service.

Form Number: OMB No. 3076-0006.

Type of Request: Reinstatement of a collection without change in the substance or method of collection.

Affected Entities: Potential applicants and/or grantees who received our grant application kit. Also applicants who have received a grant from FMCS.

Frequency: a. Three of the forms, the SF-424, LM-6, and LM-9 are submitted at the applicant/grantee's discretion.

b. To conduct the quarterly submissions, LM-7and LM-8 forms are used. Less than quarterly reports would deprive FMCS of the opportunity to provide prompt technical assistance to deal with those problems identified in the report.

c. Once per application. The LM-3 is the only form to which a “similar information” requirement could apply. Acceptance of a recent audit report without deficiencies is acceptable.

Abstract: Except for the FMCS Forms LM-3 and LM-9, the forms under consideration herein are either required or recommended in OMB Circulars. The two exceptions are non-recurring forms, the former a questionnaire sent only to non-public sector potential grantees and the latter a questionnaire sent only to former grantees for voluntary completion and submission.

The collected information is used by FMCS to determine annual applicant suitability, to monitor quarterly grant project status, and for on-going program evaluation. If the information were not collected, there could be no accounting for the activities of the program. Actual use has been the same as intended use.

Burden: The Application for Federal Assistance (SF-424) is an OMB form with no agency additions. The estimated average time burden per respondent: 30 minutes. Estimated average number of responses: 35. The Request for Advance for Advance or Reimbursement SF-270 (LM-6) and the Financial Status Report SF-269a (LM-7) are also OMB forms with no agency additions. The estimated average time burden per respondent per form: 30 minutes and approximate number of responses: 20. Project Performance (LM-8) had approximately 20 respondents and the estimated time per response is 20 minutes. FMCS Grants Program Evaluation Questionnaire (LM-9) number of respondents is approximately 10 and the estimated time per response is 60 minutes. The Accounting System and Financial Capability Questionnaire (LM-3) has approximately 20 respondents and the estimated time per response is 60 minutes.

II. Request for Comments

The FMCS is particularly interested in comments which:

(i) Evaluate whether the proposed collection of information is necessary for the proper performance of the functions of the agency, including whether the information will have practical utility;

(ii) Evaluate the accuracy of the agency's estimates of the burden of the proposed collection of information;

(iii) Enhance the quality, utility, and clarity of the information to be collected; and

(iv) Minimize the burden of the collection of information on those who are to respond, including the use of appropriate automated electronic collection technologies or other forms of information technology, e.g. permitting electronic and fax submission of responses.

List of Subjects

Labor-Management Cooperation Grant Program and Information Collection Requests.

Dated: February 4, 2014.
Michael J. Bartlett,
Deputy General Counsel.

[FR Doc. 2014-03231 Filed 2-24-14; 8:45 am]

BILLING CODE 6732-01-P